DEPARTMENT OF COMMERCE

National Oceanic and Atmospheric Administration

RIN 0648-XE750

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, August 8, 2016 through Thursday, August 11, 2016. For agenda details, see SUPPLEMENTARY INFORMATION.

ADDRESSES: The meeting will be held at: Hilton Virginia Beach Oceanfront, 3001 Atlantic Avenue, Virginia Beach, VA 23451, telephone: (757) 213-3000.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Monday, August 8, 2016

Executive Committee

The Executive Committee will hold a closed session and then open to review the letter regarding governance of summer flounder, scup, and black sea bass and coordination of research with SAFMC.

Unmanaged Forage Amendment Final Action

Review comments received during public hearings, review Ecosystem and Ocean Planning Advisory Panel and Committee recommendations for final action, and select preferred alternatives.

Ecosystem Approach to Fisheries Management (EAFM) Guidance Document

Review, finalize, and approve EAFM Guidance Document and review and discuss potential framework for integrating ecosystem interactions into fisheries assessment and management.

Tuesday, August 9, 2016

Demersal Committee Meeting as a Committee of the Whole With the Atlantic States Marine Fisheries Commission's Summer Flounder, Scup and Black Sea Bass and Bluefish Boards

Summer Flounder Allocation Project Report

A presentation will be received on the summer flounder allocation model and initial findings.

Summer Flounder Amendment Alternatives

Review and provide feedback on the list of amendment issues and Fishery Management Action Team recommendations.

Summer Flounder Specifications

Review SSC, Monitoring Committee, Advisory Panel, and staff recommendations regarding 2017-2018 specifications and recommend any changes if necessary.

Black Sea Bass Specifications

Review SSC, Monitoring Committee, Advisory Panel, and staff recommendations regarding 2017 specifications and recommend any changes if necessary.

Wednesday, August 10, 2016

Demersal Committee Meeting as a Committee of the Whole With the Atlantic States Marine Fisheries Commission's Summer Flounder, Scup and Black Sea Bass and Bluefish Boards

Scup Specifications

Review SSC, Monitoring Committee, Advisory Panel, and staff recommendations regarding 2017-18 specifications and recommend any changes if necessary.

Bluefish Specifications

Review SSC, Monitoring Committee, Advisory Panel, and staff recommendations regarding 2017-18 specifications and recommend any changes if necessary.

Executive Committee Report

Policy on Fishing Impacts on Habitat

Review and consider approval of draft policy.

For-Hire Electronic VTR Framework Meeting 2

Review Framework document and analyses to address issues raised at the June Council meeting, summary of constituent input, and summarize revisions made. Also, select final alternative(s), and discuss the implementation process.

Law Enforcement Reports

Reports will be received from the NOAA Office of Law Enforcement and the U.S. Coast Guard.

Thursday, August 11, 2016

Swearing In of New Council Members/Election of Officers

Business Session

Organization Reports; Liaison Reports; Executive Director's Report; Science Report; Committee Reports; and Continuing and New Business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: July 19, 2016.
Tracey L. Thompson,
Acting Deputy Director, Office of Sustainable Fisheries, National Marine Fisheries Service.

[FR Doc. 2016-17379 Filed 7-21-16; 8:45 am]

BILLING CODE 3510-22-P